DEPARTMENT OF TRANSPORTATION

Federal Aviation Administration

[Docket No. FAA-2019-0369]

Agency Information Collection Activities: Requests for Comments; Clearance of Renewed Approval of Information Collection: Human Space Flight Requirements for Crew/Space Flight Participants (Correction)

AGENCY: Federal Aviation Administration (FAA), DOT.

ACTION: Notice and request for comments.

SUMMARY: In accordance with the Paperwork Reduction Act of 1995, FAA invites public comments about our intention to request the Office of Management and Budget (OMB) approval to renew an information collection. The collection involves information demonstrating that a launch or reentry operation involving human participants will meet the risk criteria and requirement to ensure public safety.

DATES: Written comments should be submitted by April 4, 2023.

ADDRESSES: Please send written comments:

By Electronic Docket: www.regulations.gov (Enter docket number into search field).

By mail: Charles Huet, 800 Independence Avenue SW, Room 331, Washington, DC 20591.

By fax: 202-267-5463.

FOR FURTHER INFORMATION CONTACT: Charles Huet by email at: charles.huet@faa.gov or; phone: (202) 267-7427.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0720.

Title: Human Space Flight Requirements for Crew/Space Flight Participants.

Form Numbers: There are no FAA forms associated with this collection.

Type of Review: Renewal of an information collection.

Background: The Federal Register Notice with a 60-day comment period soliciting comments on the following collection of information was published on June 12, 2019 (84 FR 27391). There were no comments. The FAA established requirements for human space flight and space flight participants required by the Commercial Launch Amendment of 2004. The information collected is used by the FAA, A licensee or permittee, a space flight participant.

Respondents: All commercial space entities that propose to conduct a launch or reentry with flight crew or space flight participants on board must comply with this collection.

Frequency: On occasion.

Estimated Average Burden per Response: 4 Hours.

Estimated Total Annual Burden: 632 Hours.

Issued in Washington, DC.
James A. Hatt,
Space Policy Division Manager, Office of Commercial Space Transportation.

[FR Doc. 2023-02332 Filed 2-2-23; 8:45 am]

BILLING CODE P